FEDERAL FINANCIAL INSTITUTIONS EXAMINATION COUNCIL

[Docket No. AS11-30]

Appraisal Subcommittee; Notice of Special Meeting

AGENCY: Appraisal Subcommittee of the Federal Financial Institutions Examination Council

ACTION: Notice of Special Meeting.

Description: In accordance with Section 1104(b) of Title XI of the Financial Institutions Reform, Recovery, and Enforcement Act of 1989, as amended, and in accordance with ASC Rules of Operation, Section 307(b), notice is hereby given that the Appraisal Subcommittee (ASC) will meet in open session for a special meeting:

Location: ASC—1401 H Street NW., Suite 760, Washington, DC 20005, and via conference call.

Date: November 17, 2011.

Time: 10 a.m.

Status: Open.

Matters to be Considered

Discussion Agenda:

Appraisal Complaint National Hotline.

How To Attend and Observe an ASC Meeting

Email your name, organization and contact information to meetings@asc.gov. You may also send a written request via U.S. Mail, fax or commercial carrier to the Executive Director of the ASC, 1401 H Street NW., Ste 760, Washington, DC 20005. The fax number is (202) 289-4101. Your request must be received no later than 4:30 p.m., ET, on the Wednesday prior to the meeting. Attendees must have a valid government-issued photo ID and must agree to submit to reasonable security measures. The meeting space is intended to accommodate public attendees. However, if the space will not accommodate all requests, the ASC may refuse attendance on that reasonable basis. The use of any video or audio tape recording device, photographing device, or any other electronic or mechanical device designed for similar purposes is prohibited at ASC meetings.

Dated: November 10, 2011.
James R. Park,
Executive Director.

[FR Doc. 2011-29584 Filed 11-15-11; 8:45 am]

BILLING CODE 6700-01-P